BUREAU OF CONSUMER FINANCIAL PROTECTION

[Docket No. CFPB-2019-0060]

Agency Information Collection Activities: Submission for OMB Review; Comment Request

AGENCY: Bureau of Consumer Financial Protection.

ACTION: Notice and request for comment.

SUMMARY: In accordance with the Paperwork Reduction Act of 1995 (PRA), the Bureau of Consumer Financial Protection (Bureau) is requesting to reinstate the Office of Management and Budget (OMB) approval for the previously-approved information collection titled, “Application for the Bureau's Advisory Committees.”

DATES: Written comments are encouraged and must be received on or before January 2, 2020 to be assured of consideration.

ADDRESSES: Comments in response to this notice are to be directed towards OMB and to the attention of the OMB Desk Officer for the Bureau. You may submit comments, identified by the title of the information collection, OMB Control Number (see below), and docket number (see above), by any of the following methods:

• Electronic: http://www.regulations.gov. Follow the instructions for submitting comments.

• Email: OIRA_submission@omb.eop.gov.

• Fax: (202) 395-5806.

• Mail: Office of Management and Budget, New Executive Office Building, Room 10235, Washington, DC 20503.

In general, all comments received will become public records, including any personal information provided. Sensitive personal information, such as account numbers or Social Security numbers, should not be included.

FOR FURTHER INFORMATION CONTACT: Documentation prepared in support of this information collection request is available at www.reginfo.gov (this link becomes active on the day following publication of this notice). Select “Information Collection Review,” under “Currently under Review,” use the dropdown menu “Select Agency” and select “Consumer Financial Protection Bureau” (recent submissions to OMB will be at the top of the list). The same documentation is also available at http://www.regulations.gov. Requests for additional information should be directed to Darrin King, PRA Officer, at (202) 435-9575, or email: CFPB_PRA@cfpb.gov. If you require this document in an alternative electronic format, please contact CFPB_Accessibility@cfpb.gov. Please do not submit comments to these email boxes.

SUPPLEMENTARY INFORMATION:

Title of Collection: Application for the Bureau's Advisory Committees.

OMB Control Number: 3170-0037.

Type of Review: Reinstatement with change of a previously-approved OMB Control Number.

Affected Public: Individuals.

Estimated Number of Respondents: 425.

Estimated Total Annual Burden Hours: 491.

Abstract: The Director of the Bureau may invite individuals with special expertise to serve on the Bureau's advisory committees. The selection-related material will allow the Bureau to obtain information on the qualifications of individuals nominated to an advisory committee and will aid the Bureau in selecting members for service on an advisory committee. The selection-related information will also aid the Bureau in determining the appropriateness of participation in particular matters. The information collected from applicants will aid the Bureau in the exercise of its functions. The feedback collected will allow the Bureau to evaluate and improve its advisory committee program. Information collected will be used for vetting candidates, issue travel orders or provide reimbursement for travel expenses, as applicable. This is a routine request for OMB to renew its approval of the collections of information currently approved under this OMB control number. The Bureau is not proposing any new or revised collections of information pursuant to this request.

Request for Comments: The Bureau issued a 60-day Federal Register notice on July 31, 2019, (84 FR 37263, Docket Number: CFPB-2019-0042). No comments were received. Comments were solicited and continue to be invited on: (a) Whether the collection of information is necessary for the proper performance of the functions of the Bureau, including whether the information will have practical utility; (b) The accuracy of the Bureau's estimate of the burden of the collection of information, including the validity of the methods and the assumptions used; (c) Ways to enhance the quality, utility, and clarity of the information to be collected; and (d) Ways to minimize the burden of the collection of information on respondents, including through the use of automated collection techniques or other forms of information technology. Comments submitted in response to this notice will be reviewed by OMB as part of its review of this request. All comments will become a matter of public record.

Dated: November 26, 2019.
Darrin King,
Paperwork Reduction Act Officer, Bureau of Consumer Financial Protection.

[FR Doc. 2019-25994 Filed 11-29-19; 8:45 am]

BILLING CODE 4810-AM-P